DEPARTMENT OF THE INTERIOR

Bureau of Land Management

[LLCAN06000-L14300000-ET0000; CACA 054196]

Notice of Proposed Withdrawal and Opportunity for Public Meeting; California

AGENCY: Bureau of Land Management, Interior.

ACTION: Notice.

SUMMARY: The Assistant Secretary of the Interior for Policy, Management and Budget proposes to withdraw, subject to valid existing rights, on behalf of the Bureau of Land Management (BLM) 3,123 acres of public lands located in Trinity County, California, from location and entry under the United States mining laws, but not from mineral material sales or mineral or geothermal leasing, to protect the cultural, recreational, and biological resources within and along the recreational segments of the Trinity Wild and Scenic River (TRWSR). This notice temporarily segregates the lands for up to 2 years from location and entry under the United States mining laws and gives the public an opportunity to comment on the proposed withdrawal application and to request a public meeting.

DATES: The BLM must receive comments and requests for a public meeting by November 19, 2013.

ADDRESSES: Comments and meeting requests should be sent to Jennifer Mata, Field Manager, Redding Field Office, Bureau of Land Management (BLM), 355 Hemsted Drive, Redding, CA 96002.

FOR FURTHER INFORMATION CONTACT: Susie Greenhalgh, Northern California District Office, BLM, 530-224-2142. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The BLM filed an application requesting the Assistant Secretary for Policy, Management and Budget to withdraw, subject to valid existing rights, the following described lands located in Trinity County, California, from location and entry under the United States mining laws, but not from leasing under the mineral or geothermal leasing laws, or disposal under the Materials Act of 1947, to protect the cultural, recreational, and biological resources within the TRWSR:

Mount Diablo Meridian

T. 33 N., R. 8 W.,

sec. 18, lot 4, W½SE¼SW¼, SE¼SE¼SW¼, SW¼SW¼NW¼SE¼, and SW¼SW¼SE¼;

sec. 19, N½NE¼NW¼, N½SW¼NE¼NW¼, and N½SE¼NE¼NW¼.

T. 32 N., R. 9 W.,

sec. 4, lots 15 and 16;

sec. 5, lot 5;

sec. 6, lots 1, 6, 13, 17, and 21 to 26, inclusive, and SE¼NE¼;

sec. 26, lots 11, 12, and 13, S½SE¼NE¼, and N½NE¼SE¼.

T. 33 N., R. 9 W.,

sec. 13, lot 1, S½NE¼NE¼, N½SE¼NW¼, and SE¼SE¼NW¼;

sec. 22, S½SE¼SE¼;

sec. 23, N½NE¼NE¼NE¼, SE¼NE¼NE¼, SW¼SE¼SW¼NE¼, NE¼SE¼NE¼, S½SE¼NE¼, S½SW¼SW¼SW¼, S½SE¼SW¼SW¼, NE¼SE¼SW¼, S½SE¼SW¼, and S½NW¼SE¼;

sec. 24, lot 1;

sec. 27, lot 17;

sec. 28, lots 4, 7, 8, 9, 12, and 13;

sec. 29, SE¼NE¼SE¼, NE¼SE¼SE¼, and S½SE¼SE¼;

sec. 31, SE¼SE¼NE¼ and E½NE¼SE¼;

sec. 32, N½NE¼NE¼, SW¼NE¼NE¼, NW¼NE¼, NE¼NE¼NW¼, S½NE¼NW¼, SE¼NW¼NW¼, NE¼SW¼NW¼, W½SW¼NW¼, SW¼SE¼SE¼, W½SE¼SE¼SE¼, and SE¼SE¼SE¼SE¼;

sec. 34, lot 6.

T. 32 N., R. 10 W.,

sec. 1, lots 12, 13, and 14, SW¼NW¼, W½SE¼NW¼, W½NE¼SW¼, NW¼SW¼, E½SW¼SW¼, and NE¼SE¼SE¼;

sec. 2, lot 2, SW¼NE¼, E½NE¼SE¼NW¼, E½SE¼SE¼NW¼, E½NE¼NE¼SW¼, E½SE¼NE¼SW¼, N½SE¼, NE¼SW¼SE¼, and N½SE¼SE¼;

sec. 12, lots 9 and 10, and NW¼NE¼NE¼NE¼.

T. 33 N., R. 10 W.,

sec. 7, lot 13;

sec. 18, lots 13 to 16, inclusive, and 18 to 22, inclusive, and a portion of lot 8 as described in the Donation Grant Deed recorded December 24, 1986 in Book 264, pages 339 and 340, and containing 16.30 acres, more or less, to wit:

That portion of Section 18, Township 33 North, Range 10 West, M.D.M., according to the official plat thereof, described as follows:

Beginning at the quarter corner common to Sections 19 and 18, Township 33 North, Range 10 West, M.D.M., which point is marked by a brass capped iron pipe monument in a mound of rock set by the Bureau of Land Management in 1962; thence

1. North 0°29′ East, 1318.58 feet to the center south 1/16th corner of said Section 18, which is marked by a brass capped pipe monument in a mound of rock set by the Bureau of Land Management in 1986; thence

2. South 87°21′ East, 772.29 feet along the North line of the Southwest quarter of the Southeast quarter [lot 8] of said Section 18 to a point; thence

3. South 10°51′11″ West 579.13 feet to a point; thence

4. South 37°08′48″ West, 904.48 feet to a point in the South Line of said Section 18, from which the South quarter corner thereof bears North 86°54′ West, 127.55 feet distant; thence

5. North 86°54′ West, 127.55 feet to the point of beginning.

This portion of lot 8 has not been officially surveyed and platted.

sec. 19, lots 11, 13, and 16 to 19, inclusive;

sec. 20, lot 4;

sec. 29, lots 7 and 11;

sec. 32, lots 11, 15, and 16;

sec. 35, lot 6, E½NE¼SW¼, NE¼SE¼SW¼, and SW¼SE¼.

T. 33 N., R. 11 W.,

sec. 1, lots 10 and 11;

sec. 12, lots 8, 9, and 14;

sec. 13, lot 6.

T. 34 N., R. 11 W.,

sec. 21, lots 4 and 11 to 14, inclusive, and NW¼NW¼;

sec. 27, lots 12 and 13;

sec. 28, lots 3, 4, 6, 7, 9, 10, and 11;

sec. 34, lots 15, 16, and 19;

sec. 35, lots 4 and 12;

sec. 36, lots 2, 3, and 7.

The areas described aggregate 3,123 acres, more or less, in Trinity County.

The Assistant Secretary for Policy, Management and Budget approved the BLM's petition/application. Therefore, the petition/application constitutes a withdrawal proposal of the Secretary of the Interior (43 CFR 2310.1-3(e)).

The purpose of the proposed withdrawal is to protect the cultural, recreational, and biological resources within the TRWSR.

The use of a right-of-way, interagency agreement, or cooperative agreement would not adequately constrain non-discretionary uses and would not provide adequate protection of the Federal investment in the improvements located on the lands.

There are no suitable alternative sites as the described lands contain the resource values to be protected.

No additional water rights will be needed to fulfill the purpose of the requested withdrawal.

Records relating to the application may be examined by contacting the BLM at the above address and phone number.

For a period until November 19, 2013, all persons who wish to submit comments, suggestions, or objections in connection with the proposed withdrawal may present their views in writing to the Field Manager, BLM Redding Field Office, 355 Hemsted Drive, Redding, CA 96002. Information regarding the proposed withdrawal will be available for public review at the BLM's Redding Field Office, during regular business hours, 8 a.m. to 4:30 p.m. Monday through Friday, except Federal holidays.

Before including your address, phone number, email address, or other personal identifying information in your comment, you should be aware that your entire comment—including your personal identifying information—may be made publicly available at any time. Individuals that submit written comments may request confidentiality by asking us in your comment to withhold your personal identifying information from public review, however, we cannot guarantee that we will be able to do so.

Notice is hereby given that the opportunity for a public meeting is afforded in connection with the proposed withdrawal. All interested parties who desire a public meeting for the purpose of being heard on the proposed withdrawal must submit a written request to the Field Manager, BLM Redding Field Office, BLM at the address indicated above by November 19, 2013. If the BLM authorized officer determines that the BLM will hold a public meeting, the BLM will publish a notice of the time and place in the Federal Register and a local newspaper at least 30 days before the scheduled date of the meeting.

For a period until August 21, 2015, the public lands described in this notice will be segregated from location and entry under the United States mining laws, but not from leasing under the mineral or geothermal leasing laws or disposal under the Materials Act of 1947, unless the application is denied or canceled or the withdrawal is approved prior to that date.

Licenses, permits, cooperative agreement, or discretionary land use authorizations of a temporary nature that will not significantly impact the values to be protected by the withdrawal may be allowed with the approval of the authorized officer of the BLM during the temporary segregation period.

The application will be processed in accordance with the regulations set forth in 43 CFR part 2300.

Robert M. Wick,
Acting Deputy State Director, Natural Resources (CA930).

[FR Doc. 2013-20393 Filed 8-20-13; 8:45 am]

BILLING CODE 4310-40-P